DEPARTMENT OF THE INTERIOR

Bureau of Land Management

[LLIDC00000.17XL1109AF.L16200000.MG0000.241A0; 4500110251]

Notice of Public Meeting, Coeur d'Alene District Resource Advisory Council, Idaho

October 27, 2017

AGENCY: Bureau of Land Management, Interior.

ACTION: Notice of public meeting.

SUMMARY: In accordance with the Federal Land Policy and Management Act of 1976, the Federal Advisory Committee Act of 1972, and the Federal Lands Recreation Enhancement Act of 2004, the U.S. Department of the Interior, Bureau of Land Management (BLM) Coeur d'Alene District Resource Advisory Council (RAC) will meet as indicated below.

DATES: The Coeur d'Alene District RAC will hold a public meeting on Thursday, October 19, 2017. The meeting will begin at 9:00 a.m. and end no later than 3:30 p.m.

ADDRESSES: The meeting will be held at the BLM Coeur d'Alene District Office, 3815 Schreiber Way, Coeur d'Alene, Idaho 83815.

FOR FURTHER INFORMATION CONTACT: Suzanne Endsley, Coeur d'Alene District, Idaho, 3815 Schreiber Way, Coeur d'Alene, Idaho 83815, (208) 769-5004. Persons who use a telecommunications device for the deaf (TDD) may contact Ms. Endsley by calling the Federal Relay Service (FRS) at (800) 877-8339. The FRS is available 24 hours a day, 7 days a week, to leave a message or question with Ms. Endsley. You will receive a reply during normal business hours.

SUPPLEMENTARY INFORMATION: The 15-member RAC advises the Secretary of the Interior, through the Bureau of Land Management, on a variety of planning and management issues associated with public land management in Idaho. The meeting agenda will include updates from the Cottonwood and Coeur d'Alene Field Offices; presentations from the Nez Perce/Clearwater and the Idaho Panhandle National Forests regarding potential new recreation fees and/or increased fee rates; information on vegetation treatment projects and recreation enhancements. Additional agenda topics or changes to the agenda will be announced in local news releases. More information is available at http://www.blm.gov/id/st/en/get_involved/resource_advisory/coeur_d_alene_district.html. RAC meetings are open to the public. A public comment period will be available on October 19 from 1:00 p.m. to 1:30 p.m. during the meeting. Depending on the number of persons wishing to comment and time available, the time for individual oral comments may be limited.

Before including your address, phone number, email address, or other personal identifying information in your comments, please be aware that your entire comment, including your personal identifying information, may be made publicly available at any time. While you can ask us in your comment to withhold your personal identifying information from public review, we cannot guarantee that we will be able to do so.

Individuals who plan to attend and need special assistance, such as sign language interpretation, should contact the BLM as provided above.

Authority: 43 CFR 1784.4-2.

Linda Clark,
BLM Coeur d'Alene District Manager.

[FR Doc. 2017-22047 Filed 10-11-17; 8:45 am]

BILLING CODE 4310-GG-P